SMALL BUSINESS ADMINISTRATION

Intermediary Lending Pilot (ILP) Program

AGENCY: U.S. Small Business Administration (SBA).

ACTION: Notice of Funds Availability (NOFA).

SUMMARY: The U.S. Small Business Administration (SBA) requests that eligible organizations submit applications to become Intermediary Lending Pilot (ILP) Intermediaries. SBA will select up to 20 applicants to participate in the ILP program and receive direct loans of up to $1,000,000. ILP Intermediaries must use the ILP Loan funds to make loans of up to $200,000 to startup, newly established, or growing small business concerns.

DATES: The application deadline is 5 p.m. on June 10, 2011.

ADDRESSES: Completed applications must be sent to U.S. Small Business Administration, Office of Financial Assistance, Microenterprise Development Branch, Attention: Jody Raskind, Chief, 409 3rd Street, SW., Suite 8200, Washington, DC 20416.

FOR FURTHER INFORMATION CONTACT: Jody Raskind, (202) 205-6485.

SUPPLEMENTARY INFORMATION: Background: The Small Business Jobs Act of 2010 (Pub. L. 111-240), enacted September 27, 2010 (the Act), includes a provision that requires SBA to implement a three year Intermediary Lending Pilot (ILP) program. Under the ILP program, SBA will make loans to selected nonprofit intermediaries for the purpose of providing loans to small businesses. Eligible intermediaries, which include private, nonprofit community development corporations, must have at least one year of experience making loans to startup, newly established, or growing small businesses. SBA will use a competitive selection process to select ILP Intermediaries to participate in the program and will make ILP Loans of up to $1 million to no more than 20 in each of fiscal years 2011, 2012, and 2013 (depending on availability of funds). SBA currently has funding to make ILP Loans only in fiscal years 2011 and 2012. ILP Loans have a 20 year term and an interest rate of 1%, with the first payment deferred for two years. SBA collects no fees on the loans and requires no collateral. An ILP Intermediary must use the ILP Loan proceeds to make loans of up to $200,000 to startup, newly established, or growing small businesses.

Available funding: The amount currently available for ILP Loans in fiscal year 2011 is $20,000,000. SBA intends to select up to 20 applicants to become ILP Intermediaries and to make loans of up to $1,000,000 to each ILP Intermediary. SBA reserves the right to select and fund some, all, or none of the applicants for the ILP program under this NOFA.

Application materials: Intermediaries seeking to apply for the ILP program can obtain an ILP Program Application for Selection (SBA Form 2417) and the FY 2011 ILP Program Announcement, which describes the evaluation criteria and SBA's review and selection processes, at http://www.sba.gov/content/intermediary-lending-pilot. More information about all aspects of the ILP program is available in the regulations authorizing the ILP program at 13 CFR Part 109, as published in the Federal Register on April 1, 2011 (76 FR 18007).

Public meetings: SBA will hold public meetings in San Francisco on April 27, 2011 and in Washington, DC on May 5, 2011 to provide general information to potential applicants on the requirements of the ILP program and the application and selection process to become an ILP Intermediary. See the notice published in the Federal Register on April 13, 2011 (76 FR 20799). SBA will not discuss specific applications at these meetings.

Application submission rules: Complete applications must be received by the Chief, Microenterprise Development Branch in the Office of Financial Assistance, or by specific individuals designated by the Chief, by the deadline date and time. Applications received after that date and time will not be considered. Due to the required irradiation of regular mail prior to its delivery to Federal offices in the Washington, DC area, organizations are encouraged to use a “next day” or “overnight delivery” method to ensure the timely receipt of materials. Each application must be submitted in two different formats: (1) Hard copy with original signatures, and (2) in Word or PDF format on a standard Compact Disc. See the instructions in the ILP Program Application for Selection (SBA Form 2417) for specific requirements. Applications sent via email or by facsimile will not be accepted.

Authority: 15 U.S.C. 636(l) and 13 CFR 109.200(a).

Grady B. Hedgespeth,
Director, Office of Financial Assistance.

[FR Doc. 2011-10622 Filed 4-29-11; 8:45 am]

BILLING CODE 8025-01-P